DEPARTMENT OF LABOR

Employment and Training Administration

[TA-W-40,482]

Bridgestone/Firestone, Russellville, AR; Notice of Termination of Investigation

Pursuant to section 221 of the Trade Act of 1974, an investigation was initiated on December 21, 2001, in response to a worker petition that was filed by United Steelworkers of America, Local 884 on behalf of workers at Bridgestone/Firestone, located in Russellville, Arkansas.

The investigation revealed that this petition is a copy of the petition filed for the Bridgestone/Firestone workers in Russellville, Arkansas, TA-W-40,309. The petition investigation for TA-W-40,309, resulted in a negative determination that was issued on April 18, 2002. Consequently, further investigation in this case would serve no purpose, and the investigation has been terminated.

Signed in Washington, DC this 25th day of April, 2002.
Linda G. Poole,
Certifying Officer, Division of Trade Adjustment Assistance.

[FR Doc. 02-12389 Filed 5-16-02; 8:45 am]

BILLING CODE 4510-30-M